DEPARTMENT OF THE INTERIOR

Fish and Wildlife Service

50 CFR Part 100

Subsistence Management Regulations for Public Lands in Alaska

CFR Correction

In Title 50 of the Code of Federal Regulations, Parts 18 to 199, revised as of October 1, 2009, on page 663, in § 100.24, remove the second paragraph (a)(3).

[FR Doc. 2010-24662 Filed 9-29-10; 8:45 am]

BILLING CODE 1505-01-D